DEPARTMENT OF HEALTH AND HUMAN SERVICES

Health Resources and Services Administration

Agency Information Collection Activities: Proposed Collection: Public Comment Request; Information Collection Request Title: Evaluation of the Maternal and Child Health Bureau Pediatric Mental Health Care Access Program and the Screening and Treatment for Maternal Mental Health and Substance Use Disorders Program

AGENCY: Health Resources and Services Administration (HRSA), Department of Health and Human Services.

ACTION: Notice.

SUMMARY: In compliance with the requirement for opportunity for public comment on proposed data collection projects of the Paperwork Reduction Act of 1995, HRSA announces plans to submit an Information Collection Request (ICR), described below, to the Office of Management and Budget (OMB). Prior to submitting the ICR to OMB, HRSA seeks comments from the public regarding the burden estimate, below, or any other aspect of the ICR.

DATES: Comments on this ICR should be received no later than July 29, 2024.

ADDRESSES: Submit your comments to paperwork@hrsa.gov or mail the HRSA Information Collection Clearance Officer, Room 14N39, 5600 Fishers Lane, Rockville, Maryland 20857.

FOR FURTHER INFORMATION CONTACT: To request more information on the proposed project or to obtain a copy of the data collection plans and draft instruments, email paperwork@hrsa.gov or call Joella Roland, the HRSA Information Collection Clearance Officer, at (301) 443-3983.

SUPPLEMENTARY INFORMATION: When submitting comments or requesting information, please include the ICR title for reference.

Information Collection Request Title: Evaluation of the Maternal and Child Health Bureau Pediatric Mental Health Care Access Program and the Screening and Treatment for Maternal Mental Health and Substance Use Disorders Program, OMB No. 0906-xxxx—New.

Abstract: This notice describes information collection requests for two of HRSA's Maternal and Child Health Bureau programs: the Pediatric Mental Health Care Access (PMHCA) program and the Screening and Treatment for Maternal Mental Health and Substance Use Disorders (MMHSUD) program. The PMHCA program aims to promote behavioral health integration into pediatric primary care by developing and supporting state, regional, and tribal pediatric mental health care teleconsultation access programs. The MMHSUD program aims to support maternity care providers and clinical practices by supporting the development, improvement, and/or maintenance of statewide or regional behavioral health networks. Both programs support health professionals (HPs) ¹ in their delivery of high-quality and timely screening, assessment, treatment, and referrals for their targeted populations (e.g., children, adolescents, and young adults for PMHCA programs; pregnant and postpartum people for MMHSUD programs) through the provision of clinical behavioral health teleconsultation, care coordination support/navigation (e.g., resource identification and referrals), and training and education. Additionally, the PMHCA and MMHSUD programs focus on reducing racial, ethnic, and geographic disparities in access to care, especially in rural and other underserved areas.

¹ Health professionals may include, but are not limited to, pediatricians, family physicians, adult primary care clinicians, obstetrician-gynecologists, physician assistants, advanced practice nurses/nurse practitioners, licensed practical nurses, registered nurses, nurse midwives, counselors, behavioral health clinicians, social workers, care coordinators, medical assistants, and patient care navigators.

The information will be collected from PMHCA and MMHSUD award recipient programs funded in 2021, 2022, or 2023 and from participants in and stakeholders of those programs:

• The 2021 and 2022 PMHCA programs are authorized by 42 U.S.C 254c-19 (sec. 330M of the Public Health Service Act), using funding provided by section 2712 of the American Rescue Plan Act of 2021 (Pub. L. 117-2).

• The 2023 PMHCA programs are authorized by 42 U.S.C 254c-19 (sec. 330M of the Public Health Service Act), as amended by section 11005 of the Bipartisan Safer Communities Act (Pub. L. 117-159).

• The 2023 MMHSUD programs are authorized by 42 U.S.C. 247b-13a; (sec. 317L-1 of the Public Health Service Act).

To evaluate progress made toward the programs' goals, this data collection will use the following eight instruments: (1) HP Survey, (2) Practice-Level Survey, (3) Program Implementation Survey, (4) Behavioral Health Consultation Provider Semi-Structured Interview (SSI), (5) Care Coordinator SSI, (6) Champion SSI, (7) Community-Based and Other Resources SSI, and (8) Program Implementation SSI.

Need and Proposed Use of the Information: HRSA needs this information to evaluate the PMHCA and MMHSUD programs to guide future decisions regarding increasing HPs' capacity to address patients' behavioral health and access to behavioral health services. Specifically, data collected for the evaluation will be used to study the efforts of the PMHCA and MMHSUD programs to achieve key outcomes (e.g., increase in access to behavioral health services; HPs trained; identification of community-based resources, including counselors or family service providers) and to measure whether and to what extent awardee programs are associated with changes in these outcomes. The evaluation will examine changes over time within and/or across the PMHCA and MMHSUD programs, regarding PMHCA- and MMHSUD-enrolled/participating HPs' and practices': (1) capacity to address patients' behavioral health and access to behavioral health care, through screening, assessment, treatment, and referral for behavioral health conditions and (2) use of program services (e.g., consultation, care coordination, training).

Likely Respondents

• HP Survey: Pediatricians, family physicians, obstetrician-gynecologists, physician assistants, advanced practice nurses/nurse practitioners, licensed practical nurses, registered nurses, counselors, social workers, medical assistants, and patient care navigators.

• Practice-Level Survey: Practice managers (e.g., office managers, office leadership, nurse champions).

• Program Implementation Survey: Cooperative agreement-funded project directors/principal investigators.

• Behavioral Health Consultation Provider SSI: PMHCA and MMHSUD program-level behavioral health consultation providers.

• Care Coordinator SSI: PMHCA- and MMHSUD-program-level care coordinators.

• Champion SSI: PMHCA and MMHSUD program champions (e.g., HPs, community and social service specialists).

• Community-Based and Other Resources SSI: PMHCA and MMHSUD program-level community resource partner representatives (e.g., counselors, social workers, other community and social service specialists, other HPs/support workers, practice/organization managers).

• Program Implementation SSI: Cooperative agreement-funded project directors/principal investigators.

Burden Statement: Burden in this context means the time expended by persons to generate, maintain, retain, disclose, or provide the information requested. This includes the time needed to review instructions; to develop, acquire, install, and utilize technology and systems for the purpose of collecting, validating, and verifying information, processing and maintaining information, and disclosing and providing information; to train personnel and to be able to respond to a collection of information; to search data sources; to complete and review the collection of information; and to transmit or otherwise disclose the information. The total annual burden hours estimated for this ICR are summarized in the table below.

Total Estimated Annualized Burden Hours
Form name | Number of respondents | Number of responses per respondent | Total responses | Average burden per response (in hours) | Total burden hours
HP Survey | 23,177 | 1 | 23,177 | 0.33 | 7,648.41
Practice-Level Survey | 6,164 | 1 | 6,164 | 0.33 | 2,034.12
Program Implementation Survey | 66 | 1 | 66 | 0.33 | 21.78
Behavioral Health Consultation Provider SSI | 66 | 1 | 66 | 0.75 | 49.50
Care Coordinator SSI | 66 | 1 | 66 | 0.75 | 49.50
Champion SSI | 66 | 1 | 66 | 0.50 | 33.00
Community-Based and Other Resources SSI | 50 | 1 | 50 | 0.50 | 25.00
Program Implementation SSI | 132 | 1 | 132 | 1.00 | 132.00
Total | 29,787 |  | 29,787 |  | 9,993.31

HRSA specifically requests comments on: (1) the necessity and utility of the proposed information collection for the proper performance of the agency's functions; (2) the accuracy of the estimated burden; (3) ways to enhance the quality, utility, and clarity of the information to be collected; and (4) the use of automated collection techniques or other forms of information technology to minimize the information collection burden.

Maria G. Button,
Director, Executive Secretariat.

[FR Doc. 2024-11567 Filed 5-24-24; 8:45 am]

BILLING CODE 4165-15-P